FEDERAL COMMUNICATIONS COMMISSION

Radio Broadcasting Services; AM or FM Proposals To Change the Community of License

AGENCY: Federal Communications Commission.

ACTION: Notice.

SUMMARY: The following applicants filed AM or FM proposals to change the community of license: CEDAR COVE BROADCASTING, INC., Station KAVI, Facility ID 173643, BMPED-20110303ABV, From ALAMOSA, CO, To WESTCLIFFE, CO; CHURCH PLANTERS OF AMERICA, Station WOPR, Facility ID 173562, BMPED-20110302ABD, From DANBURY, NC, To MADISON, NC; COX RADIO, INC., Station WHIO-FM, Facility ID 73908, BPH-20110301ABT, From PIQUA, OH, To PLEASANT HILL, OH; CUMULUS LICENSING LLC, Station KMCK-FM, Facility ID 64630, BPH-20110301ACG, From SILOAM SPRINGS, AR, To PRAIRIE GROVE, AR; CUMULUS LICENSING LLC, Station KYNF, Facility ID 70257, BPH-20110301ACH, From PRAIRIE GROVE, AR, To CEDARVILLE, AR; CUMULUS LICENSING LLC, Station WTYB, Facility ID 14069, BPH-20110302ABO, From TYBEE ISLAND, GA, To BLUFFTON, SC; CUMULUS LICENSING LLC, Station WZAT, Facility ID 25549, BPH-20110302ABP, From SAVANNAH, GA, To TYBEE ISLAND, GA; EDUCATIONAL MEDIA FOUNDATION, Station KXPC-FM, Facility ID 61987, BPH-20110302ACD, From LEBANON, OR, To HARRISBURG, OR; EDUCATIONAL PUBLIC RADIO, INC., Station WRTH, Facility ID 175255, BMPED-20110303AAR, From LAYTON, FL, To KEY COLONY BEACH, FL; ENTERTAINMENT MEDIA TRUST, DENNIS J. WATKINS, TRUSTEE, Station WQQW, Facility ID 90598, BP-20100510ATN, From HIGHLAND, IL, To UNIVERSITY CITY, MO; FARMWORKER EDUCATIONAL RADIO NETWORK, INC., Station KBHH, Facility ID 82085, BPH-20110302ACB, From KERMAN, CA, To CANTUA CREEK, CA; FELLOWSHIPWORLD, INC., Station WFWO, Facility ID 172262, BMPED-20110307AAA, From MEDINA, NY, To NEWFANE, NY; GS RADIO OF ILLINOIS, LLC, Station WCSJ, Facility ID 17039, BP-20110228ADK, From MORRIS, IL, To ROANOKE, IL; MARTIN BROADCASTING, INC., Station KYOK, Facility ID 40484, BP-20110407ABH, From CONROE, TX, To KATY, TX; MIDNATION MEDIA LLC, Station KNDH, Facility ID 165977, BPH-20110301ACN, From HETTINGER, ND, To NEW SALEM, ND; OLD NORTHWEST BROADCASTING, INC., Station WWBL, Facility ID 50239, BPH-20110302AAC, From WASHINGTON, IN, To PETERSBURG, IN; RADIO ONE LICENSES, LLC, Station WFXK, Facility ID 24931, BPH-20110301ABN, From TARBORO, NC, To BUNN, NC; RAMS I, Station NEW, Facility ID 160978, BMP-20110311ABB, From FAYETTE, AL, To COKER, AL; SAIDNEWSFOUNDATION, Station KYCO, Facility ID 175979, BMPED-20100909ABQ, From LIMON, To HUGO; THE ORIGINAL COMPANY, INC, Station WBTO-FM, Facility ID 52567, BPH-20110302AAE, From PETERSBURG, IN, To HAUBSTADT, IN; TOM F. HUTH, Station KRAC, Facility ID 54978, BP-20110302ACC, From QUINCY, CA, To RED BLUFF, CA; UNITED STATES CP, LLC, Station KXCL, Facility ID 164277, BMPH-20110303ABW, From WESTCLIFFE, CO, To ROCK CREEK PARK, CO.

DATES: Comments may be filed on or before June 21, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554 telephone 1-800-378-3160 or http://www.BCPIWEB.com.

Federal Communications Commission.
James D. Bradshaw,
Deputy Chief, Audio Division, Media Bureau.

[FR Doc. 2011-9859 Filed 4-21-11; 8:45 am]

BILLING CODE 6712-01-P